INTERNATIONAL TRADE COMMISSION

[Inv. No. 337-TA-521]

Certain Voltage Regulator Circuits, Components Thereof and Products Containing Same; Notice of a Commission Determination Not to Review an Initial Determination Terminating the Investigation on the Basis of a Consent Order and Settlement Agreement; Issuance of Consent Order

AGENCY: International Trade Commission.

ACTION: Notice.

SUMMARY: Notice is hereby given that the U.S. International Trade Commission has determined not to review an initial determination (“ID”) of the presiding administrative law judge (“ALJ”) granting the joint motion of complainant Linear Technology Corporation and respondent Monolithic Power Systems, Inc. to terminate the above-captioned investigation on the basis of a settlement agreement and consent order.

FOR FURTHER INFORMATION CONTACT: Michael K. Haldenstein, Esq., Office of the General Counsel, U.S. International Trade Commission, 500 E Street, SW., Washington, DC 20436, telephone 202-205-3115. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On August 17, 2004, the Commission instituted an investigation under section 337 of the Tariff Act of 1930, 19 U.S.C. 1337, based on a complaint filed by Linear Technology Corporation of Milpitas, California (“Linear”) alleging a violation of section 337 in the importation, sale for importation, and sale within the United States after importation of certain voltage regulator circuits, components thereof and products containing same by reason of infringement of claims 1-6, 31, 34-35, 41, 44-48, and 51-57 of U.S. Patent No. 5, 481,178 (“the ‘178 patent”), and claims 1-19, 31, 34, and 35 of U.S. Patent No. 6,580,258. 69 FR 51104 (August 17, 2004). The complainant named Monolithic Power Systems, Inc. (“MPS”) of Los Gatos, California as respondent.

On March 16, 2005, the ALJ issued an ID (Order No. 12) extending the target date in the above-referenced investigation until February 17, 2006. No party petitioned for review of the ID, the Commission declined to review it, and it therefore became the determination of the Commission. The ALJ issued another ID (Order No. 16), further extending the target date to June 14, 2006. No party petitioned for review of the ID, the Commission declined to review it, and it therefore became the determination of the Commission.

On September 30, 2005 Linear and MPS filed their “Joint Motion to Terminate Investigation Based Upon a Settlement Agreement and Consent Order.” On October 7, 2005, the Commission Investigative Staff filed a response in support of the joint motion. On October 14, 2005, the ALJ issued the subject ID terminating the investigation on the basis of a settlement agreement and consent order.

No party petitioned for review of the ID pursuant to 19 CFR 210.43(a), and the Commission found no basis for ordering a review on its own initiative pursuant to 19 CFR 210.44. The ID thus has become the determination of the Commission pursuant to 19 CFR 210.42(h)(3).

This action is taken under the authority of section 337 of the Tariff Act of 1930, as amended, 19 U.S.C. 1337, and Commission rule 210.42, 19 CFR 210.42.

Issued: October 31, 2005.
By order of the Commission.
Marilyn R. Abbott,
Secretary to the Commission.

[FR Doc. 05-22018 Filed 11-3-05; 8:45 am]

BILLING CODE 7020-02-P